DEPARTMENT OF COMMERCE

International Trade Administration

The University of Texas at Austin; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 02-050.

Applicant: The University of Texas at Austin, Austin, TX 78712.

Instrument: “Helimak” Custom Magnetized Plasma Turbulence Apparatus.

Manufacturer: Academia Sinica Institute of Plasma Physics, Peoples Republic of China.

Intended Use: See notice at 68 FR 742, January 7, 2003.

Comments: None received.

Decision: Approved. No instrument of equivalent scientific value to the foreign instrument, for such purposes as it is intended to be used, is being manufactured in the United States.

Reasons: The foreign instrument provides: (1) A magnetized plasma embedded in a 0.1 T field with a temperature of approximately 10 eV and a density in the range of 10¹⁷ m⁻³ and (2) an externally applied and controlled sheared flow. The U.S. Department of Energy, Princeton Plasma Physics Laboratory advised February 13, 2003 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-4930 Filed 2-28-03; 8:45 am]

BILLING CODE 3510-DS-P